SECURITIES AND EXCHANGE COMMISSION

[File No. 500-1]

National Lampoon, Inc., and Advatech Corporation; Order of Suspension of Trading

December 15, 2008.

It appears to the Securities and Exchange Commission that there is a lack of current and accurate information concerning the securities of the issuers listed below.

National Lampoon, Inc. is incorporated in Delaware and headquartered in Los Angeles, California. The company's common stock is listed on the NYSE Alternext under the ticker symbol “NLN.”

Advatech Corporation is incorporated in Florida and headquartered in West Palm Beach, Florida. The company's common stock trades on the grey market under the symbol “ADVA.”

The Commission is of the opinion that the public interest and the protection of investors require a suspension of trading in the securities of the above-listed companies.

Therefore, it is ordered, pursuant to Section 12(k) of the Securities Exchange Act of 1934, that trading in the above-listed companies is suspended for the period commencing at 9:30 a.m. EST, December 15, 2008, and terminating at 11:59 p.m. EST, on December 29, 2008.

By the Commission.
Jill M. Peterson,
Assistant Secretary.

[FR Doc. E8-30082 Filed 12-15-08; 4:15 pm]

BILLING CODE 8011-01-P